CONSUMER PRODUCT SAFETY COMMISSION

16 CFR Part 1408

[Docket No. CPSC-2019-0020]

Safety Standard for Residential Gas Furnaces and Boilers; Notice of Opportunity for Oral Presentations

AGENCY: Consumer Product Safety Commission.

ACTION: Notice of proposed rulemaking; opportunity for oral presentation.

SUMMARY: The Consumer Product Safety Commission (Commission or CPSC) will be providing an opportunity for interested parties to make oral presentations on the notice of proposed rulemaking (NPR) the Commission issued regarding a safety standard for residential gas furnaces and boilers. Presentations will be part of the rulemaking record.

DATES: A hybrid hearing will be held in person at CPSC's headquarters and remotely via webinar and will begin at 10 a.m. Eastern Standard Time (EST) on February 21, 2024.

ADDRESSES: This hearing will be held as a hybrid hearing—in person at CPSC's headquarters and remotely via webinar. For individuals attending in person, the meeting will be held at CPSC's headquarters, located at 4330 East West Highway, 4th Floor—Hearing Room, Bethesda, MD 20814. Individuals who plan to attend the meeting remotely should pre-register for the webinar at cpsc.webex.com/cpsc/j.php?MTID=m950b2d5a6084894ff5d11b07f635114b. Attendance is free of charge. After registering, you will receive a confirmation email containing information about joining the webinar. In person attendees do not need to register for the hearing. Requests to make oral presentations (in person or remotely) and the text of oral presentations and written comments should be sent by email to: cpsc-os@cpsc.gov, with the subject line, “Residential Gas Furnaces and Boilers NPR; Oral Presentation.” Requests to make oral presentations—in person or remotely—and the written text of any oral presentations must be received by the Office of the Secretary no later than 5 p.m. EST on February 14, 2024. The Commission will accept written comments as well. These also must be received by the Office of the Secretary no later than 5 p.m. EST on February 14, 2024.

FOR FURTHER INFORMATION CONTACT: For information about the subject matter of this hearing, contact Ronald A. Jordan, Mechanical Engineering, Consumer Product Safety Commission, 5 Research Place, Rockville, MD 20850; telephone: 301-987-2219; email: rjordan@cpsc.gov. For information about the procedure to make an oral presentation, contact Alberta E. Mills, Office of the Secretary, Consumer Product Safety Commission, 4330 East-West Highway, Bethesda, MD 20814; telephone: 301-504-7479; cpsc-os@cpsc.gov.

SUPPLEMENTARY INFORMATION:

I. Background ¹

¹ The Commission voted 4-0 to publish this notice.

On October 25, 2023, the Commission published an NPR in the Federal Register, proposing to issue a safety standard for residential gas furnaces and boilers under the Consumer Product Safety Act (CPSA; 15 U.S.C. 2051-2089), and seeking written comments. 88 FR 73272. The proposed rule seeks to address the risk of injuries and death associated with residential gas fired central furnaces, boilers, wall furnaces, and floor furnaces (gas furnaces and boilers). To address this risk, the Commission has proposed a rule to detect and prevent dangerous levels of carbon monoxide (CO) production and leakage from residential gas furnaces and boilers.

The NPR is available at: https://www.federalregister.gov/documents/2023/10/25/2023-23302/safety-standard-for-residential-gas-furnaces-and-boilers, and CPSC staff's briefing package for the NPR is available at: https://www.cpsc.gov/s3fs-public/Notice-of-Proposed-Rulemaking-Safety-Standard-for-Residential-Gas-Furnaces-and-Boilers-COMBINED-PDFS.pdf?VersionId=7BJ3c6EeDF78nHorx2mCEr94XygwgeQV.

II. The Public Hearing

The Administrative Procedure Act (5 U.S.C. 551-559) and section 9 of the CPSA require the Commission to provide interested parties with an opportunity to submit “written data, views, or arguments” regarding a proposed rule. 5 U.S.C. 553(c); 15 U.S.C. 2058(d)(2). The NPR invited such written comments. In addition, section 9 of the CPSA requires the Commission to provide interested parties “an opportunity for oral presentation of data, views, or arguments.” 15 U.S.C. 2058(d)(2). The Commission must keep a transcript of such oral presentations. Id. In accordance with this requirement, the Commission is providing a forum for oral presentations concerning the proposed standard for residential gas furnaces and boilers.

To request the opportunity to make an oral presentation, see the information under the DATES and ADDRESSES sections of this notice. Participants should limit their presentations to approximately 10 minutes, excluding time for questions from the Commission or staff. To avoid duplicate presentations, groups should designate a spokesperson, and the Commission reserves the right to limit presentation times or impose further restrictions, as necessary.

Alberta E. Mills,
Secretary, Consumer Product Safety Commission.

[FR Doc. 2024-02563 Filed 2-7-24; 8:45 am]

BILLING CODE 6355-01-P